ENVIRONMENTAL PROTECTION AGENCY

40 CFR Parts 174 and 180

[EPA-HQ-OPP-2015-0032; FRL-9948-45]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 19, 2016.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

PP 5F8379. EPA-HQ-OPP-2015-0559. Bayer CropScience, 2 T.W. Alexander Drive, Research Triangle Park, NC 27709, requests to establish a tolerance in 40 CFR part 180 for residues of the fungicide penflufen, (1H-Pyrazole-4-carboxamide, N-[2-(1,3-dimethylbutyl)phenyl]-5-fluoro-1,3-dimethyl-) in or on beet, sugar, roots at 0.01 parts per million (ppm); and beet, sugar, tops at 0.01 ppm. The high performance liquid chromatography-electrospray ionization/tandem mass spectrometry (LC/MS/MS) is used to measure and evaluate the chemical penflufen. Contact: RD.

PP 6E8469. EPA-HQ-OPP-2016-0286. Bayer CropScience, P.O. Box 12014, 2 T.W. Alexander Drive, Research Triangle Park, NC 27709, requests to establish a tolerance in 40 CFR part 180.626 for residues of the fungicide, prothioconazole, in or on imported commodities in the Sunflower subgroup 20B at 0.2 ppm. The LC/MS/MS analytical method is used to measure and evaluate the chemical prothioconazole. Contact: RD.

PP 6E8473. EPA-HQ-OPP-2016-0333. BASF Corporation, 26 Davis Drive, Research Triangle Park, NC 27709-3528, requests to establish a tolerance in 40 CFR 180.513 for the residues of the insecticide chlorfenapyr [4-bromo-2-(4-chlorophenyl)-1-(ethoxymethyl)-5(trifluoromethyl)-1H-pyrrole-3-carbonitrile] in or on tea at 70 ppm. The analytical method is designated as M 2427, a gas chromatography/electron capture detection (GC/ECD) method with a limit of quantitation (LOQ) of 0.05 ppm. Contact: RD.

PP 6E8480. EPA-HQ-OPP-2016-0342. IR-4, Rutgers, The State University of New Jersey, 500 College Road East, Suite 201-W, Princeton, NJ 08540, requests to establish tolerances in 40 CFR part 180.127 for residues of the insecticide piperonyl butoxide [(butyl carbityl)(6-propyl piperonyl)ether], in or on fungi, edible, group 21 at 30 ppm. The analytical method consisting of high pressure LC/MS/MS is used to measure and evaluate the chemical piperonyl butoxide. Contact: RD.

PP 6F8451. EPA-HQ-OPP-2016-0325. SePRO Corporation, 11550 North Meridian Street, Suite 600, Carmel, IN 46032, requests to establish a tolerance in 40 CFR part 180.420 for residues of the herbicide fluridone in or on cotton, gin byproducts at 0.1 ppm. The enzyme-linked immunosorbant assay (ELISA), high performance liquid chromatography with ultraviolet detection (HLPC/UV), and liquid chromatography with tandem mass spectroscopy (LC-MSMS) is used to measure and evaluate the chemical fluridone. Contact: RD.

PP 6F8470. EPA-HQ-OPP-2016-0295. Dow AgroSciences, 9330 Zionsville Road, Indianapolis, IN 46268, requests to establish a tolerance in 40 CFR part 180.350 for residues of the herbicide, nitrapyrin [2-chloro-6-(trichloromethyl) pyridine] and its metabolite, 6-chloropicolinic acid (6-CPA), in or on nut, tree group 14-12 at 0.02 ppm and almond, hulls at 0.07 ppm. Method 205G881A-1 determines residues of nitrapyrin by extracting with deionized water and 1:1 (v/v) hexane:toluene. Extracts are then concentrated and passed through a silica gel column before being analyzed by gas chromatography with electron-impact mass spectrometry detection. Method 205G881-B1 determines residues of 6-chloropicolinic acid by extracting with aqueous 0.1 N sodium hydroxide. Extracts are then acidified and cleaned up by C18 solid phase extraction before being analyzed by liquid chromatography with tandem mass spectrometry detection. Contact: RD.

Amended Tolerances

PP 5F8386. EPA-HQ-OPP-2016-0326. Tessenderlo Kerley, Inc., Suite 300, 2255 N. 44th Street, Phoenix, AZ 85008, requests to amend the tolerance in the 40 CFR part 180.184 for residues of the herbicide linuron in or on potatoes at 0.2 ppm by removing the regional restrictions. The GC/MSD method is used to measure and evaluate the chemical linuron. Contact: RD.

PP 6E8472. EPA-HQ-OPP-2016-0314. Interregional Research Project Number 4 (IR-4), 500 College Road East, Suite 201W, Princeton, New Jersey 08540, requests to amend 40 CFR part 180.345 by increasing the existing tolerance for the combined residues of the herbicide ethofumesate, (2-ethoxy-2,3-dihydro-3,3-dimethyl-5-benzofuranyl methanesulfonate) and its metabolites, 2-hydroxy-2,3-dihydro-3,3-dimethyl-5-benzofuranyl methanesulfonate and 2,3-dihydro-3,3-dimethyl-2-oxo-5-benzofuranyl methanesulfonate both calculated as the parent compound in or on beet, sugar, molasses from 0.5 to 2.5 parts per million (ppm); beet, sugar, refined sugar from 0.2 to 1.0 ppm; beet, sugar, roots from 0.3 to 1.5 ppm; and beet, sugar, tops from 4.0 to 30.0 ppm. Liquid chromatography with tandem mass spectrometry analysis is the analytical method used to identify and measure chemical residues of ethofumesate. Contact RD.

PP IN-10858. EPA-HQ-OPP-2016-0121. Drexel Chemical Company, P.O. Box 13327, Memphis, TN 38113-03227, requests to amend the tolerance in 40 CFR 180.469 for residues of dichlormid (CAS Reg. No. 37764-25-3), when used as an inert ingredient (herbicide safener) in pesticide formulations, to include tolerances at 0.05 ppm for all commodities for which there are tolerances for the active ingredients metolachlor and s-metolachlor (40 CFR 180.368). Gas Chromatography Mass Spectrometry (GC-MS) with nitrogen selective thermionic detection is used to measure and evaluate the chemical dichlormid. Contact: RD.

New Tolerance Exemptions

PP IN-10888. EPA-HQ-OPP-2016-0252. Bayer HealthCare, LLC, Animal Health Division, P.O. Box 390 Shawnee Mission, KS 66201, requests to establish an exemption from the requirement of a tolerance for residues of titanium dioxide (CAS Reg. No. 13463-67-7) in or on honey when used as a pesticide inert ingredient (colorant) at a concentration of not more than 0.1% by weight in pesticide formulations intended for varroa mite control around bee hives. The petitioner believes no analytical method is needed because it is not required for an exemption from the requirement of a tolerance. Contact: RD.

PP IN-10925. EPA-HQ-OPP-2016-0330. Momentive Performance Materials, 260 Hudson River Rd., Waterford, NY 12188, requests to establish an exemption from the requirement of a tolerance for residues of acrylic acid, butyl acrylate, styrene copolymer with a minimum number-average molecular weight (in amu) of 5,200 (CAS Reg. No. 25586-20-3) when used as an inert ingredient in pesticide formulations under 40 CFR 180.960. The petitioner believes no analytical method is needed because it is not required for an exemption from the requirement of a tolerance. Contact: RD.

Amended Tolerance Exemptions

PP IN-10935. EPA-HQ-OPP-2016-0283. OMC Ag Consulting, 828 Tanglewood Lane, East Lansing, MI 48823, on behalf of Vive Crop Protection Inc., 700 Bay St., Suite 1000, Toronto, ON M5G 1Z6, Canada, requests to amend an exemption from the requirement of a tolerance for residues of acrylic polymers composed of one or more of the following monomers: Acrylic acid, butyl acrylate, butyl methacrylate, carboxyethyl acrylate, ethyl acrylate, ethyl methacrylate, hydroxybutyl acrylate, hydroxybutyl methacrylate, hydroxyethyl acrylate, hydroxyethyl methacrylate, hydroxypropyl acrylate, hydroxypropyl methacrylate, isobutyl methacrylate, lauryl methacrylate, methacrylic acid, methyl acrylate, methyl methacrylate and stearyl methacrylate; with none and/or one or more of the following monomers: Acrylamide, diethyl maleate, dioctyl maleate, maleic acid, maleic anhydride, monoethyl maleate, monooctyl maleate, N-methyl acrylamide, N,N-dimethyl acrylamide, N-octylacrylamide; and their corresponding ammonium, isopropylamine, monoethanolamine, potassium, sodium triethylamine, and/or triethanolamine salts; the resulting polymer having a minimum number average molecular weight (in amu), 1,200 when used as a pesticide inert ingredient in pesticide formulations under 40 CFR 180.960 to include the monomers lauryl acrylate and acrylamidopropyl methyl sulfonic acid. The petitioner believes no analytical method is needed because the request is for an exemption from the requirement of a tolerance. Contact: RD

Authority: 21 U.S.C. 346a.

Dated: June 30, 2016.
Susan Lewis,
Director, Registration Division, Office of Pesticide Programs.

[FR Doc. 2016-17164 Filed 7-19-16; 8:45 am]

BILLING CODE 6560-50-P